DEPARTMENT OF COMMERCE

International Trade Administration

A-570-904

Certain Activated Carbon from the People's Republic of China: Extension of Time Limit for Final Results of the Antidumping Duty Administrative Review

AGENCY: Import Administration, International Trade Administration, Department of Commerce.

EFFECTIVE DATE: July 13, 2010.

FOR FURTHER INFORMATION CONTACT: Bob Palmer or Kathleen Marksberry, AD/CVD Operations, Office 9, Import Administration, International Trade Administration, Department of Commerce, 14th Street and Constitution Avenue, NW, Washington, DC 20230; telephone: (202) 482-9068 or (202) 482-7906, respectively.

SUPPLEMENTARY INFORMATION:

Background

On May 29, 2009, Department of Commerce (“Department”) published the notice of the initiation of the antidumping duty administrative review on certain activated carbon from the People's Republic of China (“PRC”), covering the period April 1, 2008, through March 31, 2009. See Initiation of Antidumping and Countervailing Duty Administrative Reviews and Requests for Revocation in Part, 74 FR 25711 (May 29, 2009) (“Initiation Notice”).

On November 24, 2009, the Department published a notice extending the time period for issuing the preliminary results by 120 days to April 30, 2010. See Certain Activated Carbon from the People's Republic of China: Extension of Time Limits for Preliminary Results of the Antidumping Duty Administrative Review, 74 FR 61330 (November 24, 2009). Additionally, the Department exercised its discretion to toll deadlines for the duration of the closure of the Federal Government from February 5, through February 12, 2010. See Memorandum to the Record from Ronald Lorentzen, DAS for Import Administration, regarding “Tolling of Administrative Deadlines As a Result of the Government Closure During the Recent Snowstorm,” dated February 12, 2010. On May 13, 2010, the Department published the preliminary results of this review. See Certain Activated Carbon from the People's Republic of China: Notice of Preliminary Results of the Second Antidumping Duty Administrative Review, and Preliminary Rescission in Part, 75 FR 26927 (May 13, 2010) (“Preliminary Results”). The final results are currently due on September 10, 2010.

Extension of Time Limits for Final Results

Section 751(a)(3)(A) of the Tariff Act of 1930, as amended (“Act”), requires the Department to issue the final results in an administrative review of an antidumping duty order 120 days after the date on which the preliminary results are published. The Department may, however, extend the deadline for completion of the final results of an administrative review to 180 days if it determines it is not practicable to complete the review within the foregoing time period. See section 751(a)(3)(A) of the Act and 19 CFR 351.213(h)(2).

The Department requires additional time to complete this review because the Department must fully analyze and consider significant issues related to surrogate values raised in the parties' case and rebuttal briefs and post-preliminary surrogate value submissions. Thus, it is not practicable to complete this review within the time specified under the Act. Therefore, we are extending the time for the completion of the final results of this review by 45 days to October 25, 2010.

This notice is published in accordance with sections 751(a)(1) and 777(i)(1) of the Act.

Dated: July 7, 2010.
Edward C. Yang,
Acting Deputy Assistant Secretary for Antidumping and Countervailing Duty Operations.

[FR Doc. 2010-17023 Filed 7-12-10; 8:45 am]

BILLING CODE 3510-DS-S